FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—03/05/2001
20011132 | Lhoist S.A. | Baker Holding Company | Baker Holding Company.
Transactions Granted Early Termination—03/06/2001
20011513 | SBC Communications Inc | SBC Communications Inc. | Washington Baltimore Limited Partnership.
20011521 | Citigroup Inc. | Fairchild Semiconductor International, Inc | Fairchild Semiconductor International Inc.
20011525 | Wellspring Capital Partners II, L.P | Gilberto Marin Quintero | Grupo P.I. Mabe S.A. de C.V., Paragon-Mabesa International, S.A. de C.V., Stronger Corporation, S.A.
Transactions Granted Early Termination—03/09/2001
20011529 | Ameritrade Holding Corporation | Robert L. Earthman, Jr. | TradeCast, Inc.
20011530 | Ameritrade Holding Corporation | James F. Howell | TradeCast, Inc.
20011534 | ABN AMRO Holding N.V | Sam Cupp | QEK Global Solutions, L.P., QEK USA Management LLC.
20011545 | General Motors Corporation | Michael J. Menzer | Paramount Financial Group, LLC, Protech Development Corporation.
20011549 | Welsh, Carson, Anderson & Stowe VIII, L.P | Triad Hospitals, Inc. | Triad Hospitals, Inc.
20011553 | KTC/AMG Holdings Corp | Kenan Transport Company | Kenan Transport Company.
20011561 | CVS Corporation | Alan W. Hamm | Data-Tech, Inc., United Provider Services, Inc.
20011564 | Sybase, Inc. | New Era of Networks, Inc | New Era of Networks, Inc.
20011566 | WinsLoew Furniture, Inc. | Hancock Park Capital, LP | Brown Jordan International.
20011568 | Siemens, AG | Efficient Networks, Inc. | Efficient Networks, Inc.
20011569 | The Dun & Bradstreet Corporation | The Dun & Bradstreet Corporation | D&B Investors, L.P.
20011574 | Glencore Holding AG | Century Aluminum Company | Century Aluminum Company.
Transactions Granted Early Termination—03/12/2001
20011533 | President and Fellows of Harvard College | International Paper Company | IP Pacific Timberlands, Inc.
20011546 | Enron Corp. | Diashowa Paper Manufacturing, Co., Ltd | Diashowa Paper Manufacturing, Co., Ltd.
20011570 | RADICIFIN SpA | Code, Hennessey & Simmons II, L.P | Globe Holdings, Inc.
20011581 | Delphi Automotive Systems Corporation | Eaton Corporation | Eaton's Vehicle Switch/Electronics Division.
Transactions Granted Early Termination—03/13/2001
20011557 | Albert Frere | Hecla Mining Company | Kentucky-Tennessee Clay Company, K-T Feldspar Corporation, Southeastern Land Resources Corp.
20011558 | Paul G. Desmarais | Hecla Mining Company | Kentucky-Tennessee Clay Company, K-T Feldspar Corporation, Southeastern Land Resources Corp.
Transactions Granted Early Termination—03/14/2001
20011519 | HCA—The Healthcare Company | HEALTHSOUTH Corporation | HEALTHSOUTH Corporation.
Transactions Granted Early Termination—03/16/2001
20011333 | AMR Corporation | Trans World Airlines, Inc. (Debtor-in-Possession) | Trans World Airlines, Inc. (Debtor-in-Possession), TWA Stock Holding Company.
20011567 | Bruckmann, Rosser, Sherill & Co. II, L.P | II Fornaio (America) Corporation | II Fornaio (America) Corporation.
20011578 | Gustavo A. Cisneros | America Online Latin America, Inc | America Online Latin America, Inc.
20011579 | Ricardo J. Cisneros | America Online Latin America, Inc | America Online Latin America, Inc.
20011585 | Brockway Moran & Partners Fund, L.P | Mr. John F. Croddick, Sr | Cosmetic Essence, Inc.
20011592 | AT&T Corp. | UnitedGlobalCom, Inc. | UnitedGlobalCom, Inc.
20011593 | Avaya Inc. | Quintus Corporation | Quintus Corporation.
20011594 | IONA Technologies PLC | Netfish Technologies, Inc. | Netfish Technologies, Inc.
20011596 | Buhrmann N.V. | US Office Products Company | US Office Products—North America.

FOR FURTHER INFORMATION CONTACT: Sandra M. Peay or Parcellena P. Fielding, Contact Representatives, Federal Trade Commission, Premerger Notification Office, Bureau of Competition, Room 303, Washington, DC 20580, (202) 326-3100.

By Direction of the Commission.
Donald S. Clark,
Secretary.

[FR Doc. 01-8301 Filed 4-3-01; 8:45 am]

BILLING CODE 6750-01-M